DEPARTMENT OF THE INTERIOR

National Park Service

[N6920; NPS-WASO-NAGPRA-NPS0041993; PPWOCRADN0-PCU00RP14.R50000]

Notice of Intended Repatriation: Buffalo Society of Natural Sciences, Buffalo Museum of Science, Buffalo, NY

AGENCY: National Park Service, Interior.

ACTION: Notice.

SUMMARY: In accordance with the Native American Graves Protection and Repatriation Act (NAGPRA), the Buffalo Society of Natural Sciences intends to repatriate certain cultural items that meet the definition of sacred objects and that have a cultural affiliation with the Indian Tribes or Native Hawaiian organizations in this notice.

DATES: Repatriation of the cultural items in this notice may occur on or after March 13, 2026.

ADDRESSES: Send additional, written requests for repatriation of the cultural items in this notice to Kathryn H. Leacock, Buffalo Society of Natural Sciences, Buffalo Museum of Science, 1020 Humboldt Parkway, Buffalo, NY 14211, email kleacock@sciencebuff.org.

SUPPLEMENTARY INFORMATION: This notice is published as part of the National Park Service's administrative responsibilities under NAGPRA. The determinations in this notice are the sole responsibility of the Buffalo Society of Natural Sciences and additional information on the determinations in this notice, including the results of consultation, can be found in the summary or related records. The National Park Service is not responsible for the determinations in this notice.

Abstract of Information Available

A total of 37 sacred objects have been requested for repatriation. The 37 sacred objects are Medicine Face Masks and include 30 wooden faces and seven cornhusk. The 37 faces were acquired by the Buffalo Society of Natural Sciences from six different sources and represent nine separate accessions. Fifteen masks were collected by Dr. Ernest Wende at the end of the 19th century and were accessioned by the Buffalo Museum of Science in 1904-1905. Six masks known as catalog numbers C20028 through C20036 were purchased from John R. Taft of Dayton, New York on 10/31/1958. The belongings known as catalog numbers C22543 and C22544 were purchased from Willian Guy Spittal of Ontario, Canada on 12/10/1962. The masks known as catalog numbers C22604 through C22607 (four) were purchased from Fred T. Hall of Buffalo, New York on 9/15/1963. The masks known as catalog numbers C22771, C22764, & C22765 (three) were received as a donation to the Museum from the Estate of Ellsworth Jaeger in 1964. The mask known as catalog number C23205 was received as a gift from Dr. Thalia Feldman of Buffalo, New York on 7/31/1973. The remaining masks (six) have no known donor or accession information.

Determinations

The Buffalo Society of Natural Sciences has determined that:

• The 37 sacred objects described in this notice are specific ceremonial objects needed by a traditional Native American religious leader for present-day adherents to practice traditional Native American religion, according to the Native American traditional

• There is a connection between the cultural items described in this notice and the Seneca Nation of Indians.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 13, 2026. If competing requests for repatriation are received, the Buffalo Society of Natural Sciences must determine the most appropriate requestor prior to repatriation. Requests for joint repatriation of the cultural items are considered a single request and not competing requests. The Buffalo Society of Natural Sciences is responsible for sending a copy of this notice to the Indian Tribes and Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02697 Filed 2-10-26; 8:45 am]

BILLING CODE 4312-52-P